DEPARTMENT OF HEALTH AND HUMAN SERVICES

Health Resources and Services Administration

Agency Information Collection Activities: Submission to OMB for Review and Approval; Public Comment Request

AGENCY: Health Resources and Services Administration, HHS.

ACTION: Notice.

SUMMARY: In compliance with Section 3507(a)(1)(D) of the Paperwork Reduction Act of 1995, the Health Resources and Services Administration (HRSA) has submitted an Information Collection Request (ICR) to the Office of Management and Budget (OMB) for review and approval. Comments submitted during the first public review of this ICR will be provided to OMB. OMB will accept further comments from the public during the review and approval period.

DATES: Comments on this ICR should be received no later than January 16, 2015.

ADDRESSES: Submit your comments, including the Information Collection Request Title, to the desk officer for HRSA, either by email to OIRA_submission@omb.eop.gov or by fax to 202-395-5806.

FOR FURTHER INFORMATION CONTACT: To request a copy of the clearance requests submitted to OMB for review, email the HRSA Information Collection Clearance Officer at paperwork@hrsa.gov or call (301) 443-1984.

SUPPLEMENTARY INFORMATION: Information Collection Request Title: Maternal, Infant, and Early Childhood Home Visiting (MIECHV) Program Competitive Grant Final Report

OMB No.: 0915-0356—NEW

Abstract: On March 23, 2010, the President signed into law the Patient Protection and Affordable Care Act (ACA), Section 2951 of the ACA amended Title V of the Social Security Act by adding a new section, 511, which authorized the creation of the Maternal, Infant and Early Childhood Home Visiting Program (MIECHV) (http://frwebgate.access.gpo.gov/cgi-bin/getdoc.cgi?dbname=111_cong_bills&docid=f:h3590enr.txt.pdf, pages 216-225). (The MIECHV program was reauthorized by the Protecting Access to Medicare Act of 2014 (Pub. L.113-93).) The MIECHV program responds to the diverse needs of children and families in communities at risk and provides an unprecedented opportunity for collaboration and partnership at the federal, state, and community levels to improve health and development outcomes for at-risk children through evidence-based home visiting programs. Under this program, competitive funding has been awarded since June 2011 for Competitive Development Grants and Competitive Expansion Grants. Competitive Development Grants support the efforts of states and jurisdictions with modest evidence-based home visiting programs to expand the depth and scope of these efforts, in order to develop the infrastructure and capacity needed to seek a Competitive Expansion Grant in the future. Competitive Expansion Grants support the efforts of states and jurisdictions that had already made significant progress towards a high quality home visiting program or embedding their home visiting program into a comprehensive, high-quality early childhood system.

Since federal fiscal year 2011, 19 states have been awarded Competitive Development Grants, and 37 states have been awarded Competitive Expansion Grants. Grantees of the Competitive Grant Program need to complete final reports in order to comply with HRSA reporting requirements. Grantees that were awarded Competitive Development Grants during federal fiscal year 2011 were eligible for Competitive Expansion Grants in federal fiscal year 2013. For this reason, some grantees have been awarded up to two Competitive Grants to date. Ten grantees have both a Competitive Development Grant and a Competitive Expansion Grant. Additional funds are being made available for Competitive Grants in federal fiscal year 2015. Up to 35 grants are anticipated to be awarded on March 1, 2015, with a project period equal to 2 years and 7 months. Grantees are expected to use 2015 competitive grant funds to provide ongoing support to high-quality evidence-based home visiting programs and for the development and expansion of evidence-based home visiting programs funded, in whole or in part, by the MIECHV program through increased enrollment and retention of families served. After Competitive Grant issuance in 2015, some MIECHV grantees may have up to three competitive grants for which final reports need to be submitted. HRSA is collecting information from MIECHV grantees that have received competitive grant funds as part of the agency's final reporting requirements. The final report will be completed by grantees funded under the Competitive Grant Program and submitted to HRSA within 90 days of the project period end date. The burden estimates presented in the table below are based on consultations with states on the final reporting requirements described in the competitive grant guidance documents.

Need and Proposed Use of the Information: Submission of a final report is a reporting requirement under the grant award. The final report will enable assessment of program effectiveness and impact on the health and development of service recipients. Final reports will be assessed to measure and quantify the degree to which each grantee was successful in implementing the grant and ensuring yearly program improvement. Data will be extracted from final reports and aggregated, using suitable analytic approaches, to compare, contrast, and identify successes, areas for improvement, and promising practices across the program. These findings will be used to identify the accomplishments of the MIECHV program, support program or grantee improvement, and craft or inform dissemination strategies.

Likely Respondents: MIECHV grantees that have received a competitive (D89) grant award.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden—Hours
Form name | Number of respondents | Number of responses per respondent | Total responses | Average burden per response (in hours) | Total Burden Hours
MIECHV Competitive Grant Final Report—Fiscal Year 2011 and 2012 Development Grantees | 19 | 1 | 19 | 25 | 475
MIECHV Competitive Grant Final Report—Fiscal Year 2011, 2012, 2013, and 2014 Expansion Grantees | 37 | 1 | 37 | 25 | 925
MIECHV Competitive Grant Final Report—Fiscal Year 2015 Expansion Grantees | 35 | 1 | 35 | 25 | 875
Total | 44 |  |  |  | 2275

Jackie Painter,
Acting Director, Division of Policy and Information Coordination.

[FR Doc. 2014-29520 Filed 12-16-14; 8:45 am]

BILLING CODE 4165-15-P